DEPARTMENT OF THE INTERIOR

National Park Service

Notice of Inventory Completion for Native American Human Remains and Associated Funerary Objects in the Possession of the U.S. Department of Defense, Department of the Army, Fort Benning, GA; Correction

AGENCY: National Park Service, Interior.

ACTION: Notice; correction.

Notice is here given in accordance with the Native American Graves Protection and Repatriation Act (NAGPRA), 25 U.S.C. 3003, Sec. 5, of the completion of an inventory of human remains and associated funerary objects in the possession of the U.S. Department of Defense, Department of the Army, Fort Benning, GA. These human remains and associated funerary objects were removed from various sites in Chattahoochee, Muscogee, and Russell Counties, GA.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

This notice corrects the list of Native American tribes to which these human remains and associated funerary objects are affiliated. The Chickasaw Nation, Oklahoma was inadvertently omitted from the last two paragraphs of a Notice of Inventory Completion published in the Federal Register on August 29, 2002 (FR Doc. 02-22000, pages 55426-55428).

Paragraphs 16 and 17 are corrected by substituting the following paragraphs:

Based on the above-mentioned information, officials at Fort Benning and the U.S. Army installation staff, U.S. Army Engineer District, St. Louis, Mandatory Center of Expertise for the Curation and Management of Archaeological Collections have determined that, pursuant to 43 CFR 10.2 (d)(1), the human remains listed above represent the physical remains of 25 individuals of Native American ancestry. Officials at Fort Benning and the U.S. Army installation staff, U.S. Army Engineer District, St. Louis, Mandatory Center of Expertise for the Curation and Management of Archaeological Collections have also determined that, pursuant to 43 CFR 10.2 (d)(2), the 1,551 funerary objects listed above are reasonably believed to have been placed with or near individual human remains at the time of death or later as part of the death rite or ceremony. Lastly, officials at Fort Benning and the U.S. Army installation staff, the U.S. Army Engineer District, St. Louis, Mandatory Center of Expertise for the Curation and Management of Archaeological Collections have determined that, pursuant to 43 CFR 10.2 (e), there is a relationship of shared group identity that can reasonably be traced between these Native American human remains and associated funerary objects and the Muscogee-speaking people who inhabited the region prior to their removal to Oklahoma and elsewhere in 1836, namely the Alabama-Coushatta Tribes of Texas; Alabama-Quassarte Tribal Town, Oklahoma; Chickasaw Nation, Oklahoma; Coushatta Tribe of Louisiana; Kialegee Tribal Town, Oklahoma; Miccosukee Tribe of Indians of Florida; Muscogee (Creek) Nation, Oklahoma; Poarch Band of Creek Indians of Alabama; Seminole Nation of Oklahoma; Seminole Tribe of Florida; and Thlopthlocco Tribal Town, Oklahoma.

This notice has been sent to officials of the Alabama-Coushatta Tribes of Texas; Alabama-Quassarte Tribal Town, Oklahoma; Chickasaw Nation, Oklahoma; Coushatta Tribe of Louisiana; Kialegee Tribal Town, Oklahoma; Miccosukee Tribe of Indians of Florida; Muscogee (Creek) Nation, Oklahoma; Poarch Band of Creek Indians of Alabama; Seminole Nation of Oklahoma; Seminole Tribe of Florida; and Thlopthlocco Tribal Town, Oklahoma. Representatives of any other Indian tribe that believes itself to be culturally affiliated with these human remains and associated funerary objects should contact Dr. Christopher E. Hamilton, Attention: ATZB-ELN-E, Cultural Resource Manager, Fort Benning, GA 31905-5000, telephone (706) 545-2377, before April 7, 2003. Repatriation of the human remains and associated funerary objects to the Alabama-Coushatta Tribes of Texas; Alabama-Quassarte Tribal Town, Oklahoma; Chickasaw Nation, Oklahoma; Coushatta Tribe of Louisiana; Kialegee Tribal Town, Oklahoma; Miccosukee Tribe of Indians of Florida; Muscogee (Creek) Nation, Oklahoma; Poarch Band of Creek Indians of Alabama; Seminole Nation of Oklahoma; Seminole Tribe of Florida; and Thlopthlocco Tribal Town, Oklahoma may proceed after that date if no additional claimants come forward.

Dated: December 12, 2002.
John Robbins,
Assistant Director, Cultural Resources Stewardship and Partnerships.

[FR Doc. 03-5506 Filed 3-6-03; 8:45 am]

BILLING CODE 4310-70-S